DEPARTMENT OF ENERGY

Federal Energy Regulatory Commission

[Project No. 10482-042]

Woodstone Lakes Development, LLC, Woodstone Toronto Development, LLC v. Southern Energy NY-Gen, L.L.C.; Notice of Complaint

January 25, 2001.

Take notice that on January 23, 2001, Woodstone Lakes Development, LLC and Woodstone Toronto Development, LLC (individually or collectively, Woodstone) filed a complaint pursuant to Rule 206 of the Commission's Rules of Practice and Procedure and Part I of the Federal Power Act (FPA) against Southern Energy NY-GEN, L.L.C. (Southern NY), licensee of the Swinging Bridge Project No. 10482, located on the Mongaup River in Sullivan County, New York. Woodstone alleges that the licensee, in operating the project's Toronto Reservoir, has “abused its discretion under the FPA.” Woodstone further alleges that the licensee has violated its license by failing to construct certain recreational facilities at Toronto Reservoir required by Article 405 of the license; ¹ file FERC Form 80 as required by Section 18.11 of the Commission's regulations, 18 CFR 8.11; and publicize recreational facilities at Toronto Reservoir as required by Sections 8.1 and 8.2 of the Commission's regulations, 18 CFR 8.1 and 8.2.

¹ See 59 FERC ¶ 62,034 at p. 63,089 (1992), as amended by 65 FERC ¶ 62,175 at p. 64,393 (1993).

Woodstone states that copies of its filing were served upon the service list for Project No. 10482.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before February 12, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before February 12, 2001. Comments and protests may be filed electronically via the internet in lieu of paper. See, 18 CFR 385.2001(a)(1)(iii) and the instructions on the Commission's web site at http://www.ferc.fed.us/efi/doorbell.htm.

David P. Boergers,
Secretary.

[FR Doc. 01-2597 Filed 1-30-01; 8:45 am]

BILLING CODE 6717-01-M